DEPARTMENT OF AGRICULTURE

National Agricultural Statistics Service

Notice of Intent To Extend and Revise a Currently Approved Information Collection

AGENCY: National Agricultural Statistics Service, USDA.

ACTION: Notice and request for comments.

SUMMARY: In accordance with the Paperwork Reduction Act of 1995 (Pub. L. No. 104-13) and Office of Management and Budget regulations at 5 CFR part 1320 (60 FR 44978, August 29, 1995), this notice announces the National Agricultural Statistics Service (NASS) intention to request extension and revision of a currently approved information collection, the Respondent Information Evaluation.

DATES: Comments on this notice must be received by October 9, 2001 to be assured of consideration.

FOR FURTHER INFORMATION CONTACT: Contact Rich Allen, Associate Administrator, National Agricultural Statistics Service, U.S. Department of Agriculture, Room 4117 South Building, 1400 Independence Avenue SW., Washington, DC 20250-2001, (202) 720-4333.

SUPPLEMENTARY INFORMATION: Title: Respondent Information Evaluation.

OMB Control Number: 0535-0231.

Expiration Date of Approval: 09/30/01.

Type of Request: To Extend and Revise a Currently Approved Information Collection.

Abstract: The National Agricultural Statistics Service is continuing a coordinated effort to increase the cooperation of survey respondents in our information collections. This effort will include the ongoing development of a program to educate agricultural producers about the functions of NASS and the uses of survey data. As a major part of this education program, we will emphasize to data providers the importance of unbiased NASS estimates and the potential consequences if these estimates were unavailable. Ways to disseminate this message will also be investigated and tested. Data users will be surveyed to gain insight into uses of NASS data. Data providers will be surveyed to obtain their opinions of how NASS survey data are used.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for the collection of information from data users is estimated to average 10 minutes per response; burden for data providers is estimated to average 2 minutes per response.

Respondents: Subscribers to NASS commodity reports (data users) and agricultural producers (data providers).

Estimated Number of Respondents: 700 report subscribers and 9,000 producers.

Estimated Total Annual Burden on Respondents: 455 hours.

Copies of this information collection and related instructions can be obtained without charge from Ginny McBride, the Agency OMB Clearance Officer, at (202) 720-5778.

Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, Room 5330B South Building, 1400 Independence Avenue SW., Washington, DC 20250-2024 or gmcbride@nass.usda.gov. All responses to this notice will become a matter of public record and be included in the request for OMB approval.

Signed at Washington, DC, May 22, 2001.
Rich Allen,
Associate Administrator.

[FR Doc. 01-19297 Filed 8-1-01; 8:45 am]

BILLING CODE 3410-20-P